DEPARTMENT OF JUSTICE

Antitrust Division

Notice Pursuant to The National Cooperative Research and Production Act of 1993—National Electronics Manufacturing Initiative (“NEMI”)

Notice is hereby given that, on January 14, 2000, pursuant to section 6(a) of the National Cooperative Research Production Act of 1993, 15 U.S.C. 4301 et seq. (“the Act”), National Electronics Manufacturing Initiative (“NEMI”) has filed written notifications simultaneously with the Attorney General and the Federal Trade Commission disclosing changes in its membership status. The notifications were filed for the purpose of extending the Act's provisions limiting the recovery of antitrust plantiffs to actual damages under specified circumstances. Specifically, Agile Software Corporation, Armonk, NY; AMR Research, Inc., Boston MA; ChipPCA Inc., Santa Clara, CA; Indium Corporation of America, Clinton, NY; Johnson Manufacturing Company, Princeton, IA; Nortel Networks, Research Triangle Park, NC; Newbridge Networks Corporation, Kanata, Ontario, CANADA; and Netfish, Technologies, Inc., Santa Clara, CA have been added as parties to this venture. The following members have changed their names: Unicam, Inc. to Tecnomatix-Unicam, Inc. Portsmouth, NH; and Morton Electronics to Shipley Ronal, Tustin, CA. Also, Industrial Computer Corporation (ICC), Atlanta, GA; Micro Module Systems, Cupertino, CA; and Hughes Electronics Coporation, El Segundo, CA have been dropped as parties to this venture.

No other changes have been made in either the membership or planned activity of the group research project. Membership in this group research project remains open, and NEMI intends to file additional written notification disclosing all changes in membership.

On June 6, 1996, NEMI filed its original notification pursuant to Section 6(a) of the Act. The Department of Justice published a notice in the Federal Register pursuant to section 6(b) of the Act on June 28, 1996 (61 FR 33774).

The last notification was filed with the Department on October 8, 1998. A notice was published in the Federal Register pursuant to section 6(b) of the Act on January 29, 1999 (64 FR 4708).

Constance K. Robinson,
Director of Operations Antitrust Division.

[FR Doc. 00-16469 Filed 6-28-00; 8:45 am]

BILLING CODE 4410-11-M